DEPARTMENT OF THE INTERIOR

Bureau of Land Management

[WO-350-1430-PF-01-24 1A]

Extension of Approved Information Collection, OMB Approval Number 1004-0188

AGENCY: Bureau of Land Management, Interior.

ACTION: Notice and request for comments.

SUMMARY: In accordance with the Paperwork Reduction Act of 1995, the Bureau of Land Management (BLM) is requesting the Office of Management and Budget (OMB) to extend an existing approval to collect information from individuals who request rights-of-way on public lands that BLM administers under the regulations 43 CFR 2800 and 43 CFR 2880. The nonform information under 43 CFR 2800 and 43 CFR 2880 will allow BLM to:

(1) Process plans of development for complex right-of-way projects;

(2) Review and file location and project maps;

(3) Adjudicate applications for reductions in cost recovery fees;

(4) Properly assess rents on communication site rights-of-way;

(5) Determine whether or not applicants are qualified to hold right-of-way grants; and

(6) Determine the amount of fees that the applicants or grant holders owe the United States.

DATES: You must submit your comments to BLM at the address below on or before October 22, 2001. BLM will not necessarily consider any comments received after the above date.

ADDRESSES: You may mail comments to: Regulatory Affairs Group (630), Bureau of Land Management, Mailstop 401L, 1849 C Street, NW., Washington, DC 20240.

You may send comments via Internet to: WOComment@blm.gov. Please include “ATTN: 1004-0188” and your name and return address in your Internet message.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Alzata L. Ransom, Realty Use Group, on (202) 452-7772 (Commercial or FTS). Persons who use a telecommunication device for the deaf (TDD) may call the Federal Information Relay Service (FIRS) on 1-800-877-8330, 24 hours a day, seven days a week, to contact Ms. Ransom.

SUPPLEMENTARY INFORMATION: 5 CFR 1320.12(a) requires that we provide a 60-day notice in the Federal Register concerning a collection of information to solicit comments on:

(a) Whether the collection of information is necessary for the proper functioning of the agency, including whether the information will leave practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

BLM needs the information to administer its right-of-way program. Title V of the Federal Land Policy and Management Act of 1976 (FLPMA) authorizes the Secretary of the Interior to issue and renew rights-of-way through public lands under its jurisdiction. These rights-of-way uses are reservoirs, ditches, pipes and pipelines, electrical general and transmission systems, communication systems, roads, airways, and livestock driveways. BLM requires each right-of-way grant holder to reimburse for all reasonable administrative costs to process an application and monitor the right-of-way grant in accordance with section 504(g).

Section 28 of the Mineral Leasing Act of 1920 (MLA), as amended, 30 U.S.C. 185 et seq., authorizes the Secretary of the Interior to issue right-of-way grants through public lands to transport oil, gas, synthetic liquid or gaseous fuels or other refined products. The Act also allows for temporary use permits to supplement each oil and gas pipeline grant to construct, operate, maintain and terminate the pipeline, and to protect public health and safety. BLM requires right-of-way permit holders to reimburse for actual costs to process application for oil and gas pipeline grants under paragraph (f) of section 28.

The nonform information in the regulation under 43 CFR 2800 and 43 CFR 2880 authorizes BLM to collect this information to administer the rights-of-way program. Without this information, BLM would not be able to properly administer its right-of-way program.

Based upon BLM experience and recent tabulations of activity, we process approximately 4,050 applications each year. Depending on the complexity of the applications for rights-of-way, responses vary from 8 to 40 hours to complete. The estimated number of responses per year is 4,050. The estimated total annual burden is 19,550 hours.

BLM will summarize all responses to this notice and include them in the request for OMB approval. All comments will become a matter of public record.

Dated: July 31, 2001.
Michael H. Schwartz,
BLM Information Collection Clearance Officer.

[FR Doc. 01-21053 Filed 8-20-01; 8:45 am]

BILLING CODE 4310-84-M